DEPARTMENT OF EDUCATION

Early Implementation of the FAFSA Simplification Act's Removal of Requirements for Title IV Eligibility Related to Selective Service Registration and Drug-Related Convictions

AGENCY: Office of Postsecondary Education, Department of Education.

ACTION: Notice.

SUMMARY: The U.S. Department of Education (Department) publishes this notice, as required by the FAFSA Simplification Act (Act), which was enacted into law as part of the Consolidated Appropriations Act, 2021, of early implementation of the Act's removal of requirements for Title IV eligibility related to Selective Service registration and drug-related convictions.

DATES:

Effective date: June 17, 2021.

Implementation date: August 16, 2021.

FOR FURTHER INFORMATION CONTACT: Aaron Washington, U.S. Department of Education, 400 Maryland Ave. SW, Room 2C182, Washington, DC 20202. Telephone: (202) 453-7241. Email: Aaron.Washington@ed.gov.

If you use a telecommunications device for the deaf (TDD) or a text telephone (TTY), call the Federal Relay Service, toll free, at 1-800-877-8339.

SUPPLEMENTARY INFORMATION: The Department publishes this notice, as required by the Act, of early implementation of the Act's removal of requirements for Title IV eligibility related to Selective Service registration and drug-related convictions. A Dear Colleague Letter issued by the Department on June 11, 2021, providing information regarding the early implementation of the Act's removal of these requirements, including actions institutions must take as these changes are implemented in phases across award years 2021-2022, 2022-2023, and 2023-2024, is available in the Appendix of this notice.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Tiwanda Burse,
Deputy Assistant Secretary for Management & Planning, Office of Postsecondary Education.

Appendix—DCL ID: GEN-21-xx

Subject: Early Implementation of the FAFSA Simplification Act's Removal of Selective Service and Drug Conviction Requirements for Title IV Eligibility.

Summary: This letter provides information about the early implementation of the FAFSA Simplification Act's removal of Selective Service and drug conviction requirements for Title IV eligibility, as well as actions that institutions must take as these changes are implemented in phases across award years 2021-2022, 2022-2023, and 2023-2024. Certain other aspects of the law being implemented are discussed in separate communications.

Dear Colleague:

On December 27, 2020, the FAFSA Simplification Act (Act) was enacted into law as part of the Consolidated Appropriations Act, 2021. The Act makes many important changes to the Higher Education Act of 1965 (HEA) and the Free Application for Federal Student Aid (FAFSA®). Two changes referred to by this DCL include amending Sec. 484 of the HEA to remove:

• The requirement that male students register with the Selective Service before the age of 26 to be eligible for federal student aid under Title IV of the HEA (Title IV); and

• Suspension of eligibility for Title IV aid for drug-related convictions that occurred while receiving Title IV aid.

Under the Act, the Department of Education (Department) may implement these changes by providing 60 days' notice in the Federal Register. The Secretary is issuing this notice in the coming days. Institutions may implement the changes as early as the date the Federal Register notice publishes. They must implement the changes no later than 60 days after the date of the Federal Register notice (implementation date). To make Title IV aid accessible to as many students as soon as possible, the Department of Education (Department) will implement these changes in three phases across three award years: The 2021-2022, 2022-2023, and 2023-2024 award years.

Other than statutory and regulatory requirements included in the document, the contents of this guidance do not have the force and effect of law and are not meant to bind the public. This document is intended only to provide clarity to the public regarding existing requirements under the law or agency policies.

2021-2022 Award Year

For the 2021-2022 award year, for which the FAFSA cycle has already begun, the Selective Service and drug conviction questions (as well as the option to register with the Selective Service via the FAFSA) will remain on the FAFSA. However, failing to register with the Selective Service or having a drug conviction while receiving federal Title IV aid will no longer impact a student's Title IV aid eligibility.

For the 2021-2022 award year, institutions will still see Comment Codes 30, 33, or 57 for Selective Service issues and Comment Codes 53, 54, 56, or 58 for drug convictions. Each Comment Code will still include messaging that a resolution is required to regain eligibility for federal student aid. For Institutional Student Informational Reports (ISIRs) received on or after the implementation date, institutions must ignore the Comment Codes and the messaging requiring resolution and proceed to award and disburse aid to students if they are otherwise eligible. However, while recommended, institutions are not required to go back and reprocess, package, or award aid for ISIRs they received for the 2021-2022 award year prior to the implementation date unless requested by the student.

Federal Student Aid will be proactively sending emails to students who are associated with 2021-2022 ISIRs received prior to the implementation date and who were determined to be ineligible based on their answers to Selective Service and drug conviction questions informing them about the change in the law and their potential eligibility for Title IV aid. Emails will direct students to contact their institution's financial aid office.

2022-2023 Award Year

For the 2022-2023 award year, we will enhance implementation of the removal of Selective Service and drug conviction requirements for federal Title IV eligibility. Similar to the 2021-2022 award year:

• The Selective Service and drug conviction questions (as well as the option to register with the Selective Service via the FAFSA) will remain on the FAFSA;

• Failing to register with the Selective Service or having a drug conviction while receiving federal Title IV aid will no longer affect a student's Title IV aid eligibility; and

• Institutions will still see Comment Codes 30, 33, or 57 for Selective Service issues and Comment Codes 53, 54, 56, or 58 for drug convictions, which institutions must ignore and may not use as a reason to deny Title IV aid to a student.

However, for the 2022-2023 award year, the Department will include language in the Comment Codes stating that no further action is necessary on the part of the student or the institution.

2023-2024 Award Year

For the 2023-2024 award year, the Department plans to completely remove both the Selective Service and drug conviction questions from the FAFSA, as well as the option to register with the Selective Service via the FAFSA. We will also remove any associated Comment Codes and messaging that indicate a resolution is required for federal Title IV eligibility.

Questions about our early implementation of these provisions of the FAFSA Simplification Act should be referred to our Contact Customer Support outreach site within FSA's Help Center, located in the new Knowledge Center. To submit a question, please enter your name, email address, topic, and question. When submitting a question related to this Dear Colleague Letter, please select the topic “FSA Ask-A-FED/Policy.”

Thank you for your continued support of the Title IV federal student aid programs.

Sincerely,

Richard Cordray, Chief Operating Officer, Federal Student Aid.

Annmarie Weisman, Deputy Assistant, Secretary for Policy, Planning, and Innovation, Office of Postsecondary Education.

[FR Doc. 2021-12762 Filed 6-16-21; 8:45 am]

BILLING CODE 4000-01-P